DEPARTMENT OF ENERGY

Office of Energy Efficiency and Renewable Energy

[DE-PS36-01GO90000]

Financial Assistance Applications Involving Research, Development, and Demonstration; Hydrogen Technical Analysis

AGENCY: Golden Field Office, Office of Energy Efficiency and Renewable Energy, Department of Energy (DOE).

ACTION: Notice of request for financial assistance solicitation.

SUMMARY: The Hydrogen Program of the DOE Office of Energy Efficiency and Renewable Energy (EERE) is issuing a Supplemental Announcement (06) to the EERE Fiscal Year 2001 Broad Based Solicitation for Submission of Financial Assistance Applications Involving Research, Development and Demonstration, DE-PS36-01GO90000, dated November 27, 2000. Under this Supplemental Announcement 06, titled “Hydrogen Technical Analysis,” DOE is seeking applications for technical analysis in two specific areas that can advance hydrogen production, storage, and utilization technologies. Analysis is requested in the areas of: (1) Gasification of certain materials followed by hydrogen production, and (2) hydrogen infrastructure development that may be enabled by the installation of fuel cells in federal buildings and in vehicles.

DATES: DOE expects to issue the Supplemental Announcement on February 07, 2001. The closing date of the Supplemental Announcement is March 21, 2001.

ADDRESSES: The Supplemental Announcement will be posted on the DOE Golden Field Office Home Page at http://www.golden.doe.gov/businessopportunities.html under “Solicitations”.

FOR FURTHER INFORMATION CONTACT: Beth H. Dwyer, Contracting Officer, at Facsimile 303-275-4788 or e-mail Beth_Dwyer@nrel.gov.

SUPPLEMENTARY INFORMATION: DOE will undertake this effort under provisions of the Hydrogen Future Act of 1996, Public Law 104-271.

DOE anticipates selecting up to three Applications for negotiation toward an award under this Supplemental Announcement. Each award will be a Cooperative Agreement with a term of one or two calendar years (crossing up to three fiscal years), depending on the area of analysis, as described in the Supplemental Announcement. A minimum cost share of 20% of the total project cost is required for an Application to be considered for award under this Supplemental Announcement. Subject to availability, the total DOE cost share contribution for all awards is anticipated to be up to $200,000 in Fiscal Year 2001, $400,000 in 2002, and $200,000 in 2003. For each individual award, the maximum DOE cost share contribution is anticipated to be no more than $150,000 per calendar year, or a total of $300,000.

All information regarding the Supplemental Announcement will be posted on the DOE Golden Field Office Home page at the address identified in the ADDRESSES section of this notice.

Issued in Golden, Colorado on January 31, 2001.
Matthew A. Barron,
Contracting Officer, Golden Field Office.

[FR Doc. 01-4003 Filed 2-15-01; 8:45 am]

BILLING CODE 6450-01-P